DEPARTMENT OF THE TREASURY

Financial Crimes Enforcement Network; Proposed Collection; Comment Request; Customer Identification Programs for Futures Commission Merchants and Introducing Brokers.

AGENCY: Financial Crimes Enforcement Network (“FinCEN”), Treasury.

ACTION: Notice and request for comments.

SUMMARY: FinCEN invites comment on a proposed extension of a currently approved requirement that futures commission merchants and introducing brokers establish a customer identification program as required under section 326 of the Uniting and Strengthening America by providing Appropriate Tools Required to Intercept and Obstruct Terrorism (USA PATRIOT ACT) Act of 2001. This request for comments covers 31 CFR 103.123. This request for comments is being made pursuant to the Paperwork Reduction Act of 1995, Pub. L. 104-13, 44 U.S.C. 3506(c)(2)(A).

DATES: Written comments are welcome and must be received on or before August 15, 2005.

ADDRESSES: Written comments should be submitted to: Regulatory Policy and Programs Division, Financial Crimes Enforcement Network, Department of the Treasury, PO Box 39, Vienna, Virginia 22183, Attention: PRA Comments—CIP for FCMs and IBs. Comments also may be submitted by electronic mail to the following Internet address: regcomments@fincen.treas.gov, again with a caption, in the body of the text, “Attention: PRA Comments—CIP for FCMs and IBs.

Inspection of comments. Comments may be inspected, between 10 a.m. and 4 p.m., in the FinCEN reading room in Washington, DC. Persons wishing to inspect the comments submitted must request an appointment by telephoning (202) 354-6400.

FOR FURTHER INFORMATION CONTACT: The FinCEN Regulatory Helpline at 800-949-2732, select option 3, or contact Helene D. Schroeder, Special Counsel, Division of Clearing and Intermediary Oversight, Commodity Futures Trading Commission, 1155 21st Street, NW., Washington, DC 20581, (202) 418-5450; or AMLstaff@cftc.gov.

SUPPLEMENTARY INFORMATION: Title: Customer Identification Programs For Futures Commission Merchants and Introducing Brokers, 31 CFR 103.123.

OMB Number: 1506-0022.

Form Number: N/A.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities, to protect against international terrorism, and to implement counter-money laundering programs and compliance procedures.¹ Regulations implementing Title II of the Bank Secrecy Act appear at 31 CFR part 103. The authority of the Secretary to administer the Bank Secrecy Act has been delegated to the Director of FinCEN.

¹ Language expanding the scope of the Bank Secrecy Act to intelligence or counter-intelligence activities to protect against international terrorism was added by section 358 of the Uniting and Strengthening America by Providing Appropriate Tools Required to Intercept and Obstruct Terrorism Act of 2001 (the “USA PATRIOT Act”), Pub. L. 107-56.

Section 326 of the USA PATRIOT Act added a new subsection (l) to 31 U.S.C. 5318 of the Bank Secrecy Act that requires the Secretary of the Treasury to require financial institutions to establish and maintain programs to verify the identity of customers opening an account. On May 9, 2003, FinCEN and the Commodity Futures Trading Commission issued a joint final rule (68 FR 25149) requiring futures commission merchants and introducing brokers to establish a customer identification program (“CIP rule”). The final CIP rule can also be found at 31 CFR 103.123.

This notice, which has been developed jointly with the Commodity Futures Trading Commission, is presented only for purposes of soliciting public comment on the proposed extension without change of the current rule.

Type of Review: Extension without change of a currently approved collection.

Affected public: Business or other for-profit institutions.

Frequency: As required. Estimated average annual burden for the recordkeeping requirements of the rule for each respondent: 10 hours.

Estimated average annual burden for the disclosure requirements of the rule per each respondent: 1 hour.

Estimated number of respondents: 1,861.

Estimated Total Annual Reporting and Recordkeeping Burden: 20,471 hours.

An agency may not conduct or sponsor, and a person is not required to respond to, a collection of information unless the collection of information displays a valid OMB control number. Records required to be retained under the Bank Secrecy Act must be retained for five years.

Request for Comments

Comments submitted in response to this notice will be summarized and/or included in the request for OMB approval. All comments will become a matter of public record. Comments are invited on: (a) Whether the recordkeeping requirement is necessary for the proper performance of the functions of the agency, including whether the information shall have practical utility; (b) The accuracy of the agency's estimate of the burden of the collection of information; (c) Ways to enhance the quality, utility, and clarity of the information to be collected; (d) Ways to minimize the burden of the collection of information on respondents, including through the use of automated collection techniques or other forms of information technology; and (e) Estimates of capital or start-up costs and costs of operation, maintenance and purchase of services to provide information.

Dated: June 2, 2005.
William J. Fox,
Director, Financial Crimes Enforcement Network.

[FR Doc. 05-11808 Filed 6-10-05; 12:58 pm]

BILLING CODE 4810-02-P